DEPARTMENT OF TRANSPORTATION

Coast Guard

33 CFR Part 165

[CGD01-01-075]

RIN 2115-AA97

Safety Zone: USS DOYLE Port Visit—Boston, Massachusetts

AGENCY: Coast Guard, DOT.

ACTION: Temporary final rule.

SUMMARY: The Coast Guard is establishing a temporary safety zone for the USS DOYLE port visit from 7 a.m. June 1, 2001 until 2 p.m. June 4, 2001 in Boston, MA. The safety zone temporarily closes all waters of Boston Inner Harbor within a seventy five (75) foot radius of the USS DOYLE. The safety zone prohibits entry into or movement within this portion of Boston Inner Harbor during the effective period without Captain of the Port authorization. The safety zone is needed to protect the maritime community from the hazards caused by the transit of a large naval vessel, as well as to safeguard the USS DOYLE, the public and the surrounding area from sabotage or other subversive acts, accidents, or other events of a similar nature.

DATES: This rule is effective from 7 a.m. Friday, June 1 until 2 p.m. Monday, June 4, 2001.

ADDRESSES: Documents as indicated in this preamble are part of docket CGD01-01-75 and are available for inspection or copying at Marine Safety Office Boston, 455 Commercial Street, Boston, MA between the hours of 8 a.m. and 3 p.m., Monday through Friday, except Federal holidays.

FOR FURTHER INFORMATION CONTACT: Lieutenant (junior grade) Dave Sherry, Marine Safety Office Boston, Waterways Management Division, at (617) 223-3006.

SUPPLEMENTARY INFORMATION:

Regulatory History

Pursuant to 5 U.S.C. 553, a notice of proposed rulemaking (NPRM) was not published for this regulation. Good cause exists for not publishing a NPRM and for making this regulation effective in less than 30 days after Federal Register publication. Due to security concerns for the vessel, information about the port call of the USS DOYLE was not provided to the Coast Guard until May 14, 2001, making it impossible to draft or publish a NPRM or a final rule 30 days in advance of its effective date. Any delay encountered in this regulation's effective date would be unnecessary and contrary to public interest since immediate action is needed to protect the maritime community from hazards created by a large naval vessel's transit through Boston Harbor. In addition, immediate action is needed to safeguard the USS DOYLE, the public and the surrounding area from sabotage or other subversive acts, accidents, or other events of a similar nature. This temporary safety zone is only effective for a three day long port call and should have negligible impact on vessel transits due to the fact that vessels can safely transit around the zone and that they are not precluded from using any portion of the waterway except the safety zone area itself.

Background and Purpose

This regulation establishes a moving safety zone on the waters of Boston Inner Harbor seventy five (75) foot radius of the USS DOYLE during its inbound and outbound transits between the BG buoy and Pier One in the Charlestown Navy Yard in Boston Inner Harbor. A stationary safety zone will remain effective while at its temporary berth at Pier One in the Charlestown Navy Yard. The safety zone is in effect from 7 a.m. June 1 until 2 p.m. June 4, 2001. This safety zone prohibits entry into or movement within this portion of Boston Harbor and is needed to protect the maritime community from hazards created by a large naval vessel's transit, to safeguard the USS DOYLE, the public and the surrounding area from sabotage or other subversive acts, accidents, or other events of a similar nature. Marine traffic may transit safely outside of the safety zone during the inbound and outbound transit between the BG buoy and Pier One in the Charlestown Navy Yard, and while the vessel is moored in the Charlestown Navy Yard. The Captain of the Port does not anticipate any negative impact on vessel traffic due to the establishment of this safety zone. Public notifications will be made prior to the effective period via local notice to mariners and marine information broadcasts.

Regulatory Evaluation

This rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

The Coast Guard expects the economic impact of this rule to be so minimal that a full Regulatory Evaluation under paragraph 10e of the regulatory policies and procedures of DOT is unnecessary.

Although this regulation prevents traffic from transiting a portion of Boston Harbor, the effect of this regulation will not be significant for several reasons: the minimal time that vessels will be restricted from the area, the limited extent of the safety zone, the ability for vessels to safely transit outside of the safety zone, and the advance notifications which will be made to the local maritime community by marine information broadcasts.

Small Entities

Under the Regulatory Flexibility Act (5 U.S.C. 601-612), the Coast Guard considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: the owners or operators of vessels intending to transit or anchor in a portion of Boston Inner Harbor between 7 a.m. on June 1, 2001 and 2 p.m. on June 4, 2001. This safety zone will not have a significant economic impact on a substantial number of small entities for the following reasons: the safety zone is only 75 feet surrounding the USS DOYLE, permitting vessel traffic to safely pass outside of the safety zone, the safety zone is limited in duration, and the Coast Guard will issue marine information broadcasts before the effective period widely available to users of the Harbor.

Assistance for Small Entities

Due to the short notice of the need for this regulation the Coast Guard did not have time to assist small entities under section 213(a) of the Small Business Regulatory Enforcement Fairness Act of 1996 (Pub. L. 104-121).

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

The Coast Guard analyzed this rule under E.O. 13132 and has determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule would not impose an unfunded mandate.

Taking of Private Property

This rule would not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

The Coast Guard analyzed this rule under E.O. 13045, Protection of Children from Environmental Health Risks and Safety Risks. This rule is not an economically significant rule and does not pose an environmental risk to health or risk to safety that may disproportionately affect children.

Indian Tribal Governments

This rule does not have tribal implications under Executive Order 13175, Consultation and Coordination with Indian Tribal Governments. A rule with tribal implications has a substantial direct effect on one or more Indian tribes, on the relationship between the Federal Government and Indian tribes, or on the distribution of power and responsibilities between the Federal Government and Indian tribes.

Environment

The Coast Guard considered the environmental impact of this rule and concluded that, under figure 2-1, (34)(g), of Commandant Instruction M16475.lC, this proposed rule is categorically excluded from further environmental documentation. A “Categorical Exclusion Determination” is available in the docket where indicated under ADDRESSES.

List of Subjects in 33 CFR Part 165

Harbors, Marine safety, Navigation (water), Reporting and record keeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191; 33 CFR 1.05-1(g), 6.04-1, 6.04-6, and 160.5; 49 CFR 1.

2. Add temporary § 165.T01-075 to read as follows:

§ 165.T01-075 Safety Zone: USS DOYLE Port Visit—Boston, Massachusetts.

(a) Location. The following area is a safety zone: All waters of Boston Inner Harbor within a seventy five (75) foot radius of the USS DOYLE during its inbound and outbound transits between the “BG” Buoy and Pier One at the Charlestown Navy Yard. The safety zone shall remain in effect while the USS DOYLE it moored at Pier One in the Charlestown Navy Yard.

(b) Effective Date. This section is effective from 7 a.m. on Friday, June 1, 2001 until 2 p.m. on Monday, June 4, 2001.

(c) Regulations. (1) In accordance with the general regulations in § 165.23 of this part, entry into or movement within this zone will be prohibited unless authorized by the Captain of the Port Boston.

(2) All vessel operators shall comply with the instructions of the COTP or the designated on-scene U.S. Coast Guard patrol personnel. On-scene Coast Guard patrol personnel include commissioned, warrant, and petty officers of the Coast Guard on board Coast Guard, Coast Guard Auxiliary, local, state, and federal law enforcement vessels.

Dated: May 17, 2001.
B. M. Salerno,
Captain, U.S. Coast Guard, Captain of the Port, Boston, Massachusetts.

[FR Doc. 01-14098 Filed 6-4-01; 8:45 am]

BILLING CODE 4910-15-U